NUCLEAR REGULATORY COMMISSION

[Docket Nos. 50-369-LR, 50-370-LR, 50-413-LR, and 50-414-LR; ASLBP No. 02-794-01-LR]

Duke Energy Corp., McGuire Nuclear Station, Units 1 and 2, Catawba Nuclear Station, Units 1 and 2; Establishment of Atomic Safety and Licensing Board

Pursuant to delegation by the Commission dated December 29, 1972, published in the Federal Register, 37 FR 28,710 (1972); the Commission's Regulations, see 10 CFR 2.1201, 2.1207; and the Commission's Order dated October 4, 2001, CLI-01-20, 54 NRC __ (Oct. 4, 2001), an Atomic Safety and Licensing Board is being established to preside over the following proceeding:

Duke Energy Corporation

McGuire Nuclear Station, Units 1 and 2

Catawba Nuclear Station, Units 1 and 2

On June 13, 2001, Duke Energy Corporation submitted an application to renew the operating licenses for its McGuire Nuclear Station, Units 1 and 2, and Catawba Nuclear Station, Units 1 and 2, near Charlotte, North Carolina. This Licensing Board is being established pursuant to an August 15, 2000 notice of acceptance for docketing of an application and opportunity for a hearing (65 FR 60,693). The proceeding involves intervention petitions/hearing requests regarding the renewal application filed by the Nuclear Information and Resource Service and the Blue Ridge Environmental Defense League.

The Board is comprised of the following administrative judges:

Administrative Judge Ann Marshall Young, Chair, Atomic Safety and Licensing Board Panel, U.S. Nuclear Regulatory Commission, Washington, DC 20555-0001.

Administrative Judge Charles N. Kelber, Atomic Safety and Licensing Board Panel, U.S. Nuclear Regulatory Commission, Washington, DC 20555-0001.

Administrative Judge Lester S. Rubenstein, Atomic Safety and Licensing Board Panel, U.S. Nuclear Regulatory Commission, Washington, DC 20555-0001.

All correspondence, documents, and other materials shall be filed with the administrative judges in accordance with 10 CFR 2.1203.

Issued at Rockville, Md, this 5th day of October 2001.
G. Paul Bollwerk III,
Chief Administrative Judge, Atomic Safety and Licensing Board Panel.

[FR Doc. 01-25673 Filed 10-11-01; 8:45 am]

BILLING CODE 7590-01-P